DEPARTMENT OF ENERGY

Federal Energy Regulatory Commission

[Docket No. IC09-592-000]

Commission Information Collection Activities (FERC-592); Comment Request; Extension

September 23, 2009.

AGENCY: Federal Energy Regulatory Commission.

ACTION: Notice of proposed information collection and request for comments.

SUMMARY: In compliance with the requirements of section 3506(c)(2)(a) of the Paperwork Reduction Act of 1995 (Pub. L. 104-13), the Federal Energy Regulatory Commission (Commission or FERC) is soliciting public comment on the specific aspects of the information collection described below.

DATES: Comments in consideration of the collection of information are due November 30, 2009.

ADDRESSES: Comments may be filed either electronically or in paper format, and should refer to Docket No. IC09-592-000. Documents must be prepared in an acceptable filing format and in compliance with the Federal Energy Regulatory Commission submission guidelines at http://www.ferc.gov/help/submission-guide.asp.

Comments may be filed electronically via the eFiling link on the Commission's Web site at http://www.ferc.gov. First time users will have to establish a user name and password (http://www.ferc.gov/docs-filing/eregistration.asp) before eFiling. The Commission will send an automatic acknowledgement to the sender's e-mail address upon receipt of comments through eFiling.

Commenters filing electronically should not make a paper filing. Commenters that are not able to file electronically must send an original and 14 copies of their comments to: Federal Energy Regulatory Commission, Secretary of the Commission, 888 First Street, NE., Washington, DC 20426.

Users interested in receiving automatic notification of activity in this docket may do so through eSubscription (at http://www.ferc.gov/docs-filing/esubscription.asp). In addition, all comments and FERC issuances may be viewed, printed or downloaded remotely through FERC's Web site using the “eLibrary” link and searching on Docket Number IC09-592. For user assistance, contact FERC Online Support (e-mail at ferconlinesupport@ferc.gov, or call toll-free at (866) 208-3676, or for TTY, contact (202) 502-8659).

FOR FURTHER INFORMATION CONTACT: Ellen Brown may be reached by telephone at (202) 502-8663, by fax at (202) 273-0873, and by e-mail at ellen.brown@ferc.gov.

SUPPLEMENTARY INFORMATION: FERC-592 (“Marketing Affiliates of Interstate Pipelines, Standards of Conduct for Transmission Providers,” OMB No. 1902-0157) includes the reporting, recordkeeping, and posting requirements in:

▪ 18 CFR Part 358 (Standards of Conduct),¹

¹ The requirements in 18 CFR Part 358 (that are related to the natural gas industry) are included in OMB No. 1902-0157 and this Notice. However, the requirements in Part 358 that are related to the electric utility industry are covered by FERC-717 (OMB Control No. 1902-0173) and are not a subject of this Notice.

▪ 18 CFR 250.16, and

▪ FERC Form No. 592 log/format, that is posted at http://www.ferc.gov/docs-filing/eforms.asp#592.

Hereafter, this Notice will refer to this group of collections of information as “FERC-592.”

Under Section 4 of the Natural Gas Act (NGA), the Commission has the regulatory responsibility to ensure that pipeline rates are just and reasonable. In order to ensure just and reasonable rates and services, the Commission must achieve two objectives: prevent undue discrimination in natural gas markets, and promote competitive and efficient markets while mitigating market power. In short, the Commission's regulatory policy must seek to reconcile the objectives of fostering an efficient market that provides good alternatives to as many shippers as possible, while at the same time creating a regulatory framework that is fair and protects captive customers without good alternatives.

The “FERC-592” information (that is posted on the Web site, maintained, or provided by the respondents, as required) is used by the Commission to monitor the pipeline's transportation, sales, and storage activities for its marketing affiliate, and to deter undue discrimination by pipeline companies in favor of their affiliates. The information is also used by non-affiliated shippers, customers, and others (such as state commissions) to determine whether they have been harmed by affiliate preference and, in some cases, to prepare evidence for proceedings following the filing of a complaint or that address NGA section 4 rate cases.

Action: The Commission is requesting a three-year extension of the current reporting requirements, with no change.

Burden Statement: The estimated annual public reporting burden follows.

Information collection (“FERC-592,” OMB No. 1902-0157) | Number of respondents annually | Number of responses per respondent | Average burden hours per response | Total annual burden hours
| (1) | (2) | (3) | (1) × (2) × (3)
18 CFR Part 358 ¹
18 CFR 250.16
FERC Form No. 592 log/format | 85 | 1 | 116.62 | 9,913
Note: These figures may not be exact, due to rounding.

The total estimated annual cost burden ² to respondents is $611,446.22 [(9,913 hours/2,080 hours per year) × $128,297/year]. The average annual cost per respondent is $7,193.48.

² The average number of hours an employee works per year is 2,080. The average employee costs $128,297 per year.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the log of data used to allocate capacity and the transportation discount information pipelines required to post and/or maintain under 18 CFR 250.16 are still being used, (2) whether the format for submitting data prescribed in the FERC Form No. 592 needs to be updated, (3) whether the proposed collection of information is necessary for the proper performance of the functions of the Commission, including whether the information will have practical utility; (4) the accuracy of the agency's estimate of the burden of the proposed collection of information, including the validity of the methodology and assumptions used; (5) ways to enhance the quality, utility and clarity of the information to be collected; and (6) ways to minimize the burden of the collection of information on those who are to respond, including the use of appropriate automated, electronic, mechanical, or other technological collection techniques or other forms of information technology, e.g., permitting electronic submission of responses.

Kimberly D. Bose,
Secretary.

[FR Doc. E9-23516 Filed 9-29-09; 8:45 am]

BILLING CODE 6717-01-P